DEPARTMENT OF DEFENSE

Department of the Army; Corps of Engineers

Intent To Prepare a Joint Supplemental Environmental Impact Statement/Environmental Impact Report for the Hamilton Wetland Restoration Project Dredged Material Transfer Facility, Marin County, CA

AGENCY: Department of the Army, U.S. Army Corps of Engineers, DoD.

ACTION: Notice of intent.

SUMMARY: Pursuant to section 102(2)(c) of the National Environmental Policy Act (NEPA) of 1969 as implemented by the Council on Environmental Quality regulations (40 CFR parts 1500-1508), the California Environmental Quality Act (CEQA), and Public Law 102-484 section 2834, as amended by Public Law 104-106 section 2867, the Department of the Army and the California State Coastal Conservancy (SCC) hereby give notice of intent to prepare a joint Supplemental Environmental Impact Statement/Environmental Impact Report (SEIS/EIR) for the Hamilton Wetland Restoration Project (HWRP), Marin County, California to consider alternative methods to transfer dredged material collected from various navigational dredging projects within San Francisco Bay to the HWRP site for beneficial re-use in the construction of tidal and seasonal wetlands. The U.S. Army Corps of Engineers (Corps) is the lead agency for this project under NEPA. The SCC is the lead agency for this project under CEQA.

A pubic scoping meeting will be held to solicit comments on the environmental scope of the project and the appropriate scope of the SEIS/EIR.

DATES: The public scoping meeting will be held on the 26th of January 2005 from 7 to 9 p.m. at the Bay Model, 2100 Bridgeway, Sausalito, Marin County, CA.

FOR FURTHER INFORMATION CONTACT: Questions about the proposed action and SEIS/EIR can be answered by: Eric Jolliffe, U.S. Army Corps of Engineers, San Francisco District, 333 Market St., 7th floor, San Francisco, CA 94105, ejolliffe@spd02.usace.army.mil, (415) 977-8543.

SUPPLEMENTARY INFORMATION: The HWRP is located on the former Hamilton Army Airfield approximately 25 miles north of San Francisco in Marin County, CA. The original EIS/EIR was prepared for the HWRP in 1998. This project would involve the beneficial re-use of an estimated 10.6 million cubic yards (MCY) of dredged material to restore the 988-acre site to tidal and seasonal wetland, which is critical habitat for several local endangered species. Site preparation construction required prior to dredged material placement has begun. The first SEIS/EIR, which described expanding the project to include the Bel Marin Keys V (BMK-V) property, was completed in 2003. Pending congressional authorization, the adjacent BMK-V site of approximately 1610 acres will be restored as a part of the HWRP using approximately 14 MCY of additional dredged material. The present notice announces the intent to prepare a second SEIS/EIR on the HWRP, which evaluates alternative methods for delivering dredged material to the HWRP site. The goal of the HWRP as a whole is to create a diverse array of wetland and wildlife habitats at the combined Hamilton sites (HWRP & BMK-V) that benefit endangered species while facilitating the beneficial re-use of dredged material.

1. Background. The HWRP is one of several significantly sized projects to restore lost wetlands around San Francisco Bay. The ground elevation of the HWRP site has subsided since the site was diked off from the Bay, and fill material will be sued as part of the restoration process to construct project features and to speed formation of tidal marsh. The Long Term Management Strategy (LTMS) for the placement of dredged material in the San Francisco Bay and Estuary was established cooperatively by federal, state and local agencies starting in 1990 to maintain navigation channels in an economic and environmentally sound manner, to maximize the use of dredged materials as a beneficial resource, and to establish a cooperative regulatory permitting framework. The HWRP implements the LTMS through beneficial re-use and a reduction of in-Bay disposal. The alternative transfer facilities proposed are an attempt to more efficiently meet the goals of the LTMS.

2. Proposed Action. The original plan for transfer of dredged material to the project, as described in the original EIS/EIR, uses an in-bay hydraulic off-loader. Based on independent review, workshops with national experts, and a value engineering study that considered environmental, economic and operational impacts, it is determined that a more efficient and flexible method to transfer dredged material should be evaluated.

3. Project Alternatives. The SEIS/EIR will include at a minimum the following alternatives:

a. No Action: The original hydraulic off-loader. A hydraulic off-loader facility moored approximately 5 miles from HWRP in San Pablo Bay would pump dredged material as slurry through a submerged pipeline to the HWRP site. The facility would operate for 6 to 9 months of the year. Traditional aquatic disposal of dredged material at in-bay or offshore disposal sites would be performed during periods when an off-loader is not operational, the wetland construction site is not available for material placement, or for dredging projects with incompatible equipment or scheduling requirements. An off-loader facility will require an operational footprint of between 12 and 16 acres within San Pablo Bay.

b. Confined in-bay aquatic transfer facility. An enclosed temporary dredged material storage basin near or coincident with the authorized disposal area SF-10, approximately 5 miles offshore of the Hamilton site in San Pablo Bay, would allow a greater number of dredging projects to contribute to wetland restoration efforts. An aquatic transfer facility would likely be used in lieu of open water sites SF-10 and SF-9 and other in-bay disposal areas during the 13-19 year construction of the HWRP. A confined transfer facility would require between 30 to 40 acres in San Pablo Bay, as opposed to the 149 acres that SF-9 and SF-10 now occupy.

c. Semi-confined in-bay aquatic transfer facility. A semi-confined temporary in-bay aquatic transfer facility would function similarly to the confined basin, but would not be entirely enclosed within a structural confinement. The general size of the facility is anticipated to be the same as the completely confined alternative.

d. Unconfined in-bay aquatic transfer facility. An unconfined temporary dredged material storage basin would function as the confined basin but would have no containment structure. An unconfined basin would likely require a footprint of 40 to 50 acres.

e. Combination of off-loader and aquatic transfer basin methods.

4. Environmental Considerations. In all cases, environmental considerations will include patterns of currents; suspended sediment transport; turbidity; impacts to bathymetry and the benthos; fish entrainment; water quality; air, noise and aesthetic impacts; potential benefits and impacts on either commercial or recreational fishing; and the temporary suspension or ongoing use of in-bay dredged material disposal sites SF-10 and possibly SF-9 as well as other potential environmental issues of concern.

5. Scoping Process. The Corps and SCC are seeking input from interested federal, state, and local agencies, Native American representatives, and other interested private organizations and parties through provision of this notice and holding of a scoping meeting (see DATES). The purpose of this meeting is to solicit input regarding the environmental issues of concern and the alternatives that should be discussed in the SEIS/EIR. The public comment period closes February 25, 2005.

6. Availability of SEIS/EIR. The public will have an additional opportunity to comment on the proposed alternatives after the draft SEIS/EIR is released to the public in 2005.

Philip T. Feir,
Lieutenant Colonel, Corps of Engineers, District Engineer.

[FR Doc. 05-903 Filed 1-14-05; 8:45 am]

BILLING CODE 3710-19-M